DEPARTMENT OF STATE

[Public Notice: 9592]

In the Matter of the Designation of Jama'at ul Dawa al-Qu'ran, aka JDQ, aka Jamaat al Dawa ila al Sunnah, aka Jamaat ud Dawa il al Quran al Sunnah, aka Jamaat ul Dawa al Quran, aka Jamaat-ud-Dawa al Quran wal Sunnah, aka Jama'at Da'wa al-Sunnat, aka Jama'at al-Da'wa ala-l-Quran wa-l-Sunna, aka Society for the Call/Invitation to the Quran and the Sunna, aka JDQS, aka Salafi Group, aka Jama'at ad-Da'wa as-Salafiya wa-l-Qital, aka Jamiat al-Dawa al-Quran wal-Sunna, aka Assembly for the Call of the Koran and the Sunnah as a Specially Designated Global Terrorist

Acting under the authority of and in accordance with sec. 1(b) of Executive Order 13224 of September 23, 2001, as amended by Executive Order 13268 of July 2, 2002, and Executive Order 13284 of January 23, 2003, I hereby determine that the individual known as Jama'at ul Dawa al-Qu'ran, also known as JDQ, also known as Jamaat al Dawa ila al Sunnah, also known as Jamaat ud Dawa il al Quran al Sunnah, also known as Jamaat ul Dawa al Quran, also known as Jamaat-ud-Dawa al Quran wal Sunnah, also known as Jama'at Da'wa al-Sunnat, also known as Jama'at al-Da'wa ala-l-Quran wa-l-Sunna, also known as Society for the Call/Invitation to the Quran and the Sunna, also known as JDQS, also known as Salafi Group, also known as Jama'at ad-Da'wa as-Salafiya wa-l-Qital, also known as Jamiat al-Dawa al-Quran wal-Sunna, also known as Assembly for the Call of the Koran and the Sunnah committed, or poses a significant risk of committing, acts of terrorism that threaten the security of U.S. nationals or the national security, foreign policy, or economy of the United States.

Consistent with the determination in sec. 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: May 6, 2016.
John F. Kerry,
Secretary of State.

[FR Doc. 2016-12972 Filed 6-1-16; 8:45 am]

BILLING CODE 4710-AD-P